DEPARTMENT OF ENERGY

Federal Energy Regulatory Commission

Combined Notice Of Filings #1

Take notice that the Commission received the following electric rate filings:

Docket Numbers: ER12-2489-001.

Applicants: New York Independent System Operator, Inc., Niagara Mohawk Power Corporation.

Description: Amendment Interconnection Agreement no. 1913 Among NiMO and Village of Solvay to be effective 6/18/2012.

Filed Date: 9/11/12.

Accession Number: 20120911-5051.

Comments Due: 5 p.m. ET 10/2/12.

Docket Numbers: ER12-2608-000.

Applicants: Delmarva Power & Light Company.

Description: Choptank Construction Agreement to be effective 10/9/2012.

Filed Date: 9/10/12.

Accession Number: 20120910-5212.

Comments Due: 5 p.m. ET 10/1/12.

Docket Numbers: ER12-2609-000.

Applicants: Mesquite Power, LLC.

Description: Mesquite Power LLC Concurrence to SRSG Participation Agreement to be effective 12/28/2011.

Filed Date: 9/10/12.

Accession Number: 20120910-5213.

Comments Due: 5 p.m. ET 10/1/12.

Docket Numbers: ER12-2610-000.

Applicants: PJM Interconnection, L.L.C.

Description: Original Service Agreement No. 3393; Queue No. X4-043 to be effective 8/15/2012.

Filed Date: 9/11/12.

Accession Number: 20120911-5059.

Comments Due: 5 p.m. ET 10/2/12.

Take notice that the Commission received the following electric reliability filings:

Docket Numbers: RR12-13-000.

Applicants: North American Electric Reliability Corporation.

Description: Update to Request of the North American Electric Reliability Corporation for Acceptance of its 2013 Business Plan and Budget and the Business Plans and Budgets of Regional Entities and for Approval of Assessments to Fund Budgets.

Filed Date: 9/10/12.

Accession Number: 20120910-5225.

Comments Due: 5 p.m. ET 9/28/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 11, 2012.
Nathaniel J. Davis, Sr.,
Deputy Secretary.

[FR Doc. 2012-22945 Filed 9-17-12; 8:45 am]

BILLING CODE 6717-01-P